COMMITTEE FOR PURCHASE FROM PEOPLE WHO ARE BLIND OR SEVERELY DISABLED

Procurement List; Proposed Additions And Deletion

AGENCY: Committee for Purchase From People Who Are Blind or Severely Disabled.

ACTION: Proposed additions to and deletion from the Procurement List.

SUMMARY: The Committee is proposing to add products and a service to the Procurement List that will be furnished by nonprofit agencies employing persons who are blind or have other severe disabilities and to delete a service previously provided by such agency.

Comments Must be Received On or Before: 9/6/2010.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C. 47(a) (2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to Procurement List for production by the nonprofit agencies listed:

Products

Stock Title Stamp

NSN: 7520-00-NSH-0129—“Faxed”

NSN: 7520-00-NSH-0130—“Paid”

NSN: 7520-00-NSH-0131—“Void”

NSN: 7520-00-NSH-0132—“For Deposit Only”

NSN: 7520-00-NSH-0133—“File Copy”

NSN: 7520-00-NSH-0134—“E-Mailed”

NSN: 7520-00-NSH-0135—“Mailed”

NSN: 7520-00-NSH-0136—“Revised”

NSN: 7520-00-NSH-0137—“Enclosure”

NSN: 7520-00-NSH-0138—“SBU”

NSN: 7520-00-NSH-0139—“For Official Use Only”

NSN: 7520-00-NSH-0140—“Classified”

NSN: 7520-00-NSH-0141—“MICAP”

NSN: 7520-00-NSH-0142—“For Training Only”

NSN: 7520-00-NSH-0143—“NOFORN”

NSN: 7520-00-NSH-0144—“Secret/ACCM”

NSN: 7520-00-NSH-0145—“USDA”

NSN: 7520-00-NSH-0146—“United States Treasury”

NSN: 7520-00-NSH-0147—“Army Standard”

NPA: Arbor Products, Inc., Houston, TX

Contracting Activity: GSA/FSS OFC SUP CTR—PAPER PRODUCTS, NEW YORK, NY

COVERAGE: B-List for the Broad Government Requirement as aggregated by the General Services Administration.

Jacket, United States Coast Guard Running Suit

NSN: 8415-00-NIB-0783—Size XS

NSN: 8415-00-NIB-0784—Size SM

NSN: 8415-00-NIB-0785—Size MD

NSN: 8415-00-NIB-0786—Size LG

NSN: 8415-00-NIB-0787—Size X-LG

NSN: 8415-00-NIB-0788—Size XX-LG

NPA: San Antonio Lighthouse for the Blind, San Antonio, TX

Contracting Activity: DEPARTMENT OF HOMELAND SECURITY, U.S. COAST GUARD, WASHINGTON, DC

COVERAGE: C-List for 100% of the requirements of the U.S. Coast Guard as aggregated by the U.S. Coast Guard.

Service

Service Type/Location: Grounds Maintenance, Jonathan Wainwright Memorial VAMC, 77 Wainwright Drive, Walla Walla, WA.

NPA: Lillie Rice Center, Walla Walla, WA.

Contracting Activity: DEPARTMENT OF VETERANS AFFAIRS, NETWORK BUSINESS OFFICE (10N20VBO), VANCOUVER, WA.

Deletion

Regulatory Flexibility Act Certification

I certify that the following action will not have a significant impact on a substantial number of small entities. The major factors considered for this certification were:

1. If approved, the action will not result in additional reporting, recordkeeping or other compliance requirements for small entities.

2. If approved, the action may result in authorizing small entities to provide a service to the Government.

3. There are no known regulatory alternatives which would accomplish the objectives of the Javits-Wagner-O'Day Act (41 U.S.C. 46-48c) in connection with a service proposed for deletion from the Procurement List.

End of Certification

The following service is proposed for deletion from the Procurement List:

Service

Service Type/Location: Mailing Service, Centers for Disease Control and Prevention, National Center for Infectious Diseases, Atlanta, GA.

NPA: Tommy Nobis Enterprises, Inc., Marietta, GA.

Contracting Activity: DEPARTMENT OF HEALTH AND HUMAN SERVICES, DIVISION OF CONTRACT & GRANTS OPERATIONS, WASHINGTON, DC.

Barry S. Lineback,
Director, Business Operations.

[FR Doc. 2010-19452 Filed 8-5-10; 8:45 am]

BILLING CODE 6353-01-P